DEPARTMENT OF TRANSPORTATION

Federal Aviation Administration; Advanced Aviation Advisory Committee (AAAC); Renewal

AGENCY: Federal Aviation Administration (FAA), DOT.

ACTION: Notice of renewal.

SUMMARY: The FAA announces the charter renewal of the Advanced Aviation Advisory Committee (AAAC), a Federal advisory committee that works with industry, community stakeholders, and the public to improve the development of the FAA's regulations.

DATES: This charter will take effect June 10, 2022, and will expire after two years unless it is renewed.

FOR FURTHER INFORMATION CONTACT: Gary Kolb, UAS Integration Office, Federal Aviation Administration, 490 L'Enfant Plaza SW, Suite 2206, Washington, DC, telephone (202) 267-4441; email Gary.Kolb@faa.gov.

SUPPLEMENTARY INFORMATION: Pursuant to section 14(a)(2)(A) of the Federal Advisory Committee Act (Pub. L. 92-463), the FAA is giving notice of the charter renewal for the AAAC. The AAAC is a broad-based Federal advisory committee that provides the FAA with advice on key drone and advanced air mobility (AAM) integration issues by helping to identify challenges and prioritize improvements. The committee helps to create broad support for an overall integration strategy and vision. Membership comprises individuals who currently serve on an organization's core senior leadership team with the ability to make decisions on UAS or AAM-related matters. See the AAAC website for more information details on pending tasks at https://www.faa.gov/uas/programs_partnerships/advanced_aviation_advisory_committee/.

Issued in Washington, DC.
Jessica A. Orquina,
Acting Manager, Executive Office, AUS-10, UAS Integration Office, Federal Aviation Administration.

[FR Doc. 2022-13008 Filed 6-15-22; 8:45 am]

BILLING CODE 4910-13-P